DEPARTMENT OF COMMERCE

National Oceanic and Atmospheric Administration

15 CFR Part 902

50 CFR Part 648

[Docket No. 070827327-7327-01; I.D. 020907E]

RIN 0648-AT62

Magnuson-Stevens Fishery Conservation and Management Act Provisions; Fisheries of the Northeastern United States; Atlantic Surfclam and Ocean Quahog Fishery; Framework Adjustment 1

AGENCY: National Marine Fisheries Service (NMFS), National Oceanic and Atmospheric Administration (NOAA), Commerce

ACTION: Final rule.

SUMMARY: This final rule implements Framework Adjustment 1 (FW 1) to the Atlantic Surfclam and Ocean Quahog Fishery Management Plan (FMP). FW 1 management measures were developed by the Mid-Atlantic Fishery Management Council (Council) and implements a vessel monitoring system (VMS) requirement for vessels participating in the surfclam and ocean quahog fisheries. The VMS requirement replaces the current telephone-based notification requirement necessary prior to departure on a surfclam or ocean quahog fishing trip and facilitates monitoring of closed areas and state/Federal jurisdictional boundaries. The intent of this action is to implement management measures that will improve the management and enforcement of regulations governing the Atlantic surfclam and ocean quahog fishery in the U.S. Exclusive Economic Zone.

DATES: Effective January 1, 2008.

ADDRESSES: Copies of supporting documents, including the Regulatory Impact Review (RIR) and Final Regulatory Flexibility Analysis (FRFA) are available from Daniel Furlong, Executive Director, Mid-Atlantic Fishery Management Council, Room 2115, Federal Building, 300 South New Street, Dover, DE 19904-6790. A copy of the small entity compliance guide is available from Patricia A. Kurkul, Regional Administrator, NMFS, Northeast Regional Office, 1 Blackburn Drive, Gloucester, MA 01930. A copy of the RIR/FRFA and the small entity compliance guide is also accessible via the Internet at http://www.nero.noaa.gov/.

Written comments regarding the burden-hour estimates or other aspects of the collection-of-information requirements contained in this proposed rule should be submitted to the Regional Administrator at the address above and to David Rostker, Office of Management and Budget (OMB), by e-mail at David_Rostker@omb.eop.gov, or fax to (202) 395-7285.

Information on the Federal VMS reimbursement program is available from the Pacific States Marine Fisheries Commission, 205 SE Spokane Street, Suite 100, Portland, OR 97202 (Website: http://www.psmfc.org, Telephone Number: 503-595-3100, Fax Number: 503-595- 3232).

FOR FURTHER INFORMATION CONTACT: Brian R. Hooker, Fishery Policy Analyst, 978-281-9220.

SUPPLEMENTARY INFORMATION:

Background

The Council voted on December 13, 2006, to recommend to NMFS that a VMS requirement for Atlantic surfclam and ocean quahog fishing vessels, including Maine mahogany quahog vessels, be implemented for their respective fisheries. This action was originally approved by the Council as part of Amendment 13 to the FMP in 2003. However, the Council recommended that the Administrator, Northeast Region, NMFS (Regional Administrator) implement a VMS requirement for the fisheries when an economically viable system, tailored to meet the needs of the Atlantic surfclam and ocean quahog fishery, became available to the industry. Three VMS vendors have been approved by NMFS for use in the Northeast Region. The costs of the VMS units have decreased since 2003, so that purchase and installation costs now range from approximately $1,800 to $3,800, and recurring monthly costs range from $25 to $100. As a result of the lower costs, the Council voted in June 2005 to begin the development of a framework adjustment to require the mandatory use of VMS for surfclams and ocean quahogs. The Council held two public meetings, on October 11, 2006, and December 13, 2006, to discuss the management measures contained in FW 1 and, on December 13, 2006, the Council selected and approved the VMS management measures to submit to NMFS for approval and implementation. The Council's approved measures included a provision to delay the effectiveness of the VMS requirement for a period of one year for the limited access permitted Maine mahogany quahog fishery. This delay is to allow greater time for the participants in the smaller, artisanal fishery in Maine, to comply with the new VMS requirement. NMFS published a proposed rule on March 5, 2007 (72 FR 9719) and requested public comments through April 4, 2007, on the management measures contained in FW 1.

A VMS requirement is necessary for the surfclam and ocean quahog fishery in order to: (1) Eliminate the requirement to notify NMFS Office of Law Enforcement via telephone prior to beginning a fishing trip; (2) facilitate the monitoring of areas closed to fishing due to environmental degradation (e.g., harmful algal blooms and former dump sites); and (3) facilitate the monitoring of borders between state and Federal regulatory jurisdiction. Further rationale and detailed description of the measures in FW 1 is provided in the framework and in the preamble to the proposed rule and is not repeated here.

Comments and Responses

NMFS received one comment on the proposed rule during the comment period. The comment was in general support of the vessel monitoring requirement contained in FW 1.

Changes from the Proposed Rule

In § 648.15(b), the time and place that a vessel must declare its intended fishing activity via the VMS was changed to clarify that the declaration must be made prior to leaving port. The proposed rule was inconsistent in whether the fishing activity was to be declared prior to departure on a fishing trip or prior to crossing the vessel demarcation line. This revision is consistent with other Northeast VMS fisheries, which require that fishing activity be declared prior to leaving port. This clarification modified the regulatory text in the prohibition section of § 648.14 and the facilitation of enforcement section of § 648.15.

Although not a regulatory change, the VMS purchase and cost estimates that were given in the proposed rule are clarified here. In the preamble of the proposed rule, the VMS purchase and installation costs were stated as between $3,150 and $4,200. However, the IRFA summary section of the proposed rule stated a VMS purchase and installation cost range of from $1,800 to $3,800. The low-end cost of $3,150, in the $3,150 - $4,200 cost range, included an estimated cost for a personal computer that is not sold as a part of the lowest cost VMS unit available. In order to give a full range of the costs associated with the purchase and installation of a VMS unit the greater range of $1,800 to $3,800 was analyzed for the IRFA. The difference in the high-end cost estimates was based upon differing installation cost estimates. Although prices are set by the vendors, and therefore subject to change, the VMS purchase and installation cost estimate range of $1,800 to $3,800 is the most accurate at the time of publication of this final rule.

Classification

This action is taken under the authority of the Magnuson-Stevens Fishery Conservation and Management Act (Magnuson-Stevens Act) and regulations at 50 CFR part 648. The Regional Administrator determined that management measures in FW 1 are necessary for the conservation and management of the surfclam and ocean quahog fishery and that it is consistent with the Magnuson-Stevens Act and other applicable laws. This final rule has been determined to be not significant for purposes of Executive Order 12866. A description of the reasons why this action is being taken by the Agency and the objectives of this final rule are contained in the preambles of the proposed and final rules. This action does not duplicate, overlap, or conflict with any other Federal rules.

Final Regulatory Flexibility Analysis

NMFS, pursuant to section 604 of the Regulatory Flexibility Act (RFA), prepared this FRFA in support of the management measures implementing FW 1. The FRFA incorporates the economic impacts summarized in the IRFA and the corresponding RIR that were prepared for this action. A summary of the IRFA was published in the Classification section of the proposed rule and is not repeated here. Copies of the IRFA and RIR prepared for this action are available from the Northeast Regional Office (see ADDRESSES). A description of why this action was taken, the objectives of, and the legal basis for this rule, are contained in the preamble to the proposed rule and final rule and are not repeated here.

Summary of Issues Raised by the Public Comments in Response to the IRFA

No significant issues related to the IRFA or the economic effects of the proposed rule were raised in the one public comment submitted on the proposed rule.

Description and Estimate of Number of Small Entities to Which this Rule Will Apply

This action applies to federally permitted Atlantic surfclam and ocean quahog commercial fishing vessels. The Small Business Administration (SBA) defines a small commercial fishing entity as a firm with gross receipts not exceeding $4.0 million. In 2005, 48 vessels reported harvesting surfclams and/or ocean quahogs from Federal waters under an Individual Transferable Quota (ITQ) system. In the same year, 32 vessels reported harvesting quahogs in the Maine Mahogany Quahog Zone (MMQZ). Average 2005 gross incomes were $846,186 per surfclam harvester, $728,780 per ocean quahog harvester, and $120,592 per Maine mahogany quahog harvester. Each vessel in this analysis is treated as a single entity for purposes of size determination and impact assessment. All 80 commercial fishing entities thus fall under the SBA size standard for small commercial fishing entities. However, it is important to note that, of the 80 entities active in 2005, 29 are already in compliance with the requirement to have a VMS installed on the fishing vessel. Thus, if all vessels that participated in 2005 continue to fish, only 51 vessels will be required to purchase a VMS unit. Furthermore, as a result of the delay of the VMS requirement for Maine mahogany quahog harvesters, 26 of the 51 vessels would be given an additional year from the effective date of the final rule to comply with the VMS requirement.

Description of Projected Reporting, Recordkeeping, and Other Compliance Requirements

In 2005, there were approximately 5,580 fishing trips taken by 80 vessels across all surfclam and ocean quahog permit categories. Thus, the VMS fishing trip declaration requirement should, on average, result in almost 70 trip declarations per year per vessel. Based on 2005 fishery participation levels, it is estimated that 51 fishing vessels (25 vessels in the first year and 26 in the second year of implementation) will be required to purchase and install a VMS unit to comply with this final rule. The purchase and installation costs for a VMS unit range from $1,800 to $3,800, with annual service fees between $360 and $960. A full description of the burden hour estimate and VMS purchase and installation costs for the recordkeeping and reporting requirements of this final rule are given in the Reporting and Recordkeeping Requirements section of this final rule.

Description of Minimization of Economic Impacts on Small Entities

Economic impacts on small entities resulting from the purchase costs of new VMS units have been minimized through a VMS reimbursement program (July 21, 2006, 71 FR 41425) that made available approximately $4.5 million in grant funds for fiscal year (FY) 2006 for vessel owners and/or operators who have purchased a VMS unit for the purpose of complying with fishery regulations that became effective during or after FY 2006. As of April 3, 2007, an additional $4 million was being added to the fund. Reimbursement for VMS units is available on a first come, first serve, basis until the funds are depleted. More information on the VMS reimbursement program is available from the Pacific States Marine Fisheries Commission (see ADDRESSES) and from the NMFS VMS Support Center, which can be reached at 888-219-9228. In addition, all vessels with a limited access Maine mahogany quahog permit would be granted an additional year from the effective date of a final rule implementing FW 1 to come into compliance with the VMS requirement. This additional year is proposed for the Maine mahogany quahog fishery because it operates in an area where shore-based electrical power may not currently be available. Vessel owners in this fishery often moor their vessels away from shore due to lack of shoreside facilities and, when shoreside docking facilities are available, electrical power may not be included. Thus, it is anticipated that this sector will have the additional burden of procuring an auxiliary power system (e.g., an extra battery, photovoltaic cells) in order to comply with the VMS requirement to maintain power to the VMS unit 24 hr per day.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the action a small entity is required to take to comply with a rule or group of rules. As part of this rulemaking process, a small entity compliance guide was prepared. Copies of the guide will be sent to all holders of commercial Federal Atlantic surfclam, ocean quahog, and limited access Maine ocean quahog fishery permits. The guide will also be available on the internet at http://www.nero.noaa.gov. Copies of the guide can also be obtained from the Regional Administrator (see ADDRESSES).

Reporting and Recordkeeping Requirements

This rule contains collection of information requirements subject to review and approval by OMB under the Paperwork Reduction Act (PRA) and which has been approved by OMB under control number 0648-0558. This action eliminates the surfclam/ocean quahog vessel telephone call-in provision included in the collection of information currently approved under OMB Control Number 0648-0202. The new control number, 0648-0558, has been assigned to this new collection until such time that 0648-0202 may be modified. Annualized over a 3-yr period, the direct financial cost to the fishing industry for the purchase, installation, and service of equipment in order to comply with the VMS trip declaration requirement is estimated to be $73,491. For this action the actual reporting burden (e.g., vessel VMS trip declaration) will not change significantly from the telephone call-in provision currently approved under OMB Control Number 0648-0202 because, although the reporting time for each vessel will be reduced, the total number of vessels required to report will increase, due to the inclusion of the Maine mahogany quahog fishery. The vessel owner or operator of a vessel participating in the ITQ program will no longer have to telephone a local port office prior to departure on a surfclam or ocean quahog trip and verbally give the following information: Name of the vessel; NMFS permit number assigned to the vessel; expected date and time of departure from port; whether the trip will be directed on surfclams or ocean quahogs; expected date, time, and location of landing; and name of individual providing notice. The reporting burden for this requirement was estimated at 2 min per response (OMB Control Number 0648-0202) when the reporting requirement was implemented in 1993 (58 FR 14342, March 17, 1993).

Under this final rule, the vessel owner or operator will be required to make an activity declaration (e.g., surfclam, ocean quahog, or Maine mahogany quahog) displayed on the VMS monitor located in the wheelhouse of the vessel. All identifying information is transmitted as a VMS fishery code. Vessel departure and return information from the fishing trip will be monitored through the VMS by way of the vessel crossing the VMS demarcation line to and from port. On the surfclam and ocean quahog VMS trip declaration screen, vessel operators have three options to choose from: (1) Atlantic surfclam ITQ trip; (2) ocean quahog ITQ trip; and (3) Maine mahogany quahog trip. It is estimated that choosing the appropriate trip declaration will take 1 min per response. As previously noted, in 2005, there were approximately 5,580 fishing trips taken by the entire industry. This makes the time burden for the VMS trip declaration 92 hr per year for the fleet. When considering the time to respond to providing proof of VMS installation and the time needed for requesting an exemption to turn off the VMS unit (“power-down”), the annual reporting burden is 100 hr for the entire fleet. The public's reporting burden for the collection-of information requirements includes the time for reviewing instructions, searching existing data sources, gathering and maintaining the data needed, and completing and reviewing the collection-of-information requirements.

Send comments regarding these burden estimates or any other aspect of this data collection, including suggestions for reducing the burden, to the Northeast Regional Administrator (see ADDRESSES) and by e-mail to David_Rostker@omb.eop.gov, or fax to 202-395-7285. Notwithstanding any other provision of the law, no person is required to respond to, and no person shall be subject to a penalty for failure to comply with a collection of information subject to the requirements of the PRA, unless that collection of information displays a currently valid OMB control number.

List of Subjects

15 CFR Part 902

Reporting and recordkeeping requirements.

50 CFR Part 648

Fisheries, Fishing, Reporting and recordkeeping requirements.

Dated: September 5, 2007.
Samuel D. Rauch III,
Deputy Assistant Administrator for Regulatory Programs, National Marine Fisheries Service.

For the reasons stated in the preamble, 15 CFR, Chapter IX, Part 902, and 50 CFR, Chapter VI, Part 648 are amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under 50 CFR is amended by adding, in numerical order, an entry for § 648.81(d) to read as follows:

§ 902.1 OMB control numbers assigned pursuant to the Paperwork Reduction Act.

(b) * * *

CFR part or section where the information collection requirement is located | Current OMB control number the information (All numbers begin with 0648-)
* * * * * |
50 CFR |
* * * * *
648.15(b) | -0558
* * * * * |

50 CFR Chapter VI

PART 648—FISHERIES OF THE NORTHEASTERN UNITED STATES

1. The authority citation for part 648 continues to read as follows:

Authority: 16 U.S.C. 1801 et seq.

2. In § 648.2, definitions for “Individual Transferable Quota (ITQ) Program” and “Mahogany Quahog” are added in alphabetical order, and the definition for “Vessel Monitoring System” is revised to read as follows:

§ 648.2 Definitions.

* * * * *

Individual Transferable Quota (ITQ) Program means, for the Atlantic surfclam and ocean quahog fishery, the annual individual allocation of quota specified at § 648.70.

* * * * *

Mahogany Quahog see Ocean Quahog

* * * * *

Vessel Monitoring System (VMS) means a vessel monitoring system or VMS unit as set forth in § 648.9 and approved by NMFS for use on Atlantic sea scallop, NE multispecies, monkfish, Atlantic herring, and Atlantic surfclam and ocean quahog vessels, as required by this part.

* * * * *

3. In § 648.4, paragraph (a)(4)(ii) is added to read as follows:

§ 648.4 Vessel permits.

(a)* * *

(4)* * *

(ii) VMS Requirement. (A) Surfclam and ocean quahog open access permits. In order to be eligible for issuance of an open access surfclam or ocean quahog permit, the vessel owner must have installed on the vessel an operational VMS unit that meets the criteria set forth in § 648.9. The vessel owner/operator must activate the VMS unit and provide verification of vendor activation from a NMFS-approved VMS vendor as described in § 648.9. Verification is done by completing, signing, and mailing or faxing a VMS certification form to the NMFS Northeast Region Office of Law Enforcement.

(B) Maine mahogany quahog limited access permit. In order to be eligible for issuance of a Maine mahogany quahog permit, the vessel owner must have installed on the vessel an operational VMS unit that meets the criteria set forth in § 648.9. By January 1, 2009, unless otherwise exempted under paragraph (a)(4)(ii)(B)(1) of this section. The vessel owner/operator must activate the VMS unit and provide verification of vendor activation from a NMFS-approved VMS vendor as described in § 648.9. Verification is done by completing, signing, and mailing or faxing a VMS certification form to the NMFS Northeast Region Office of Law Enforcement.

(1) Special VMS exemption for Maine mahogany quahog vessels. Vessel owners eligible to renew a limited access Maine mahogany quahog permit may do so without proof of installation of a VMS, provided the vessel does not fish for, catch, or possess; or attempt to fish for, catch, or posses; Maine mahogany quahogs. Proof of VMS installation must be provided to the NMFS Northeast Region Office of Law Enforcement prior to departure on any fishing trip on which ocean quahogs may be caught or landed. Once a vessel issued a Maine mahogany quahog permit has elected to participate in the Maine mahogany quahog fishery, the vessel must keep the VMS unit turned on and functioning as specified under § 648.9. Once a limited access Maine mahogany quahog permitted vessel has participated in the Maine mahogany quahog fishery, this exemption no longer applies.

(2) [Reserved]

* * * * *

4. In § 648.9, paragraphs (c)(2)(i)(B) and (e) are revised to read as follows:

§ 648.9 VMS requirements.

* * * * *

(c) * * *

(2) * * *

(i) * * *

(B) For vessels fishing with a valid NE multispecies limited access permit, or a valid surfclam and ocean quahog permit specified at § 648.4(a)(4), the vessel owner signs out of the VMS program for a minimum period of 30 consecutive days by obtaining a valid letter of exemption pursuant to paragraph (c)(2)(ii) of this section, the vessel does not engage in any fisheries until the VMS unit is turned back on, and the vessel complies with all conditions and requirements of said letter; or

* * * * *

(e) New and replacement VMS installations. The vessel owner/operator required to use a VMS must provide to the NMFS Northeast Region Office of Law Enforcement verification of vendor activation prior to departure on a fishing trip requiring VMS. A VMS certification of installation form is available from the NMFS Regional Administrator. Should a VMS unit require replacement, a vessel owner must submit documentation to the Regional Administrator, within 3 days of installation and prior to the vessel's next trip, verifying that the new VMS unit is an operational, approved system as described under paragraph (a) of this section. Vessel owners required to use a VMS in the Atlantic surfclam and ocean quahog fishery, as specified at § 648.15(b), must confirm the VMS operation and communications service to NMFS by calling 978-281-9213 to ensure that position reports are automatically sent to and received by NMFS Office of Law Enforcement (OLE). For the Atlantic surfclam and ocean quahog fishery, NMFS does not regard the fishing vessel as meeting the VMS requirements until automatic position reports and a manual declaration are received.

* * * * *

5. In § 648.10, paragraphs (b)(1)(vii) and paragraph (b)(1)(viii) are added, and (b)(2) is revised to read as follows:

§ 648.10 DAS and VMS notification requirements.

* * * * *

(b) * * *

(1) * * *

(vii) A vessel issued a surfclam (SF 1) or an ocean quahog (OQ 6) open access permit;

(viii) Effective January 1, 2009, a vessel issued a Maine mahogany quahog (OQ 7) limited access permit, unless otherwise exempted under paragraph § 648.4(a)(4)(ii)(B)(1);

* * * * *

(2) The owner of a vessel as specified in paragraph (b)(1) of this section, with the exception of a vessel issued a limited access NE multispecies permit as specified in paragraph (b)(1)(vi) of this section, must provide documentation to the Regional Administrator at the time of application for a limited access permit that the vessel has an operational VMS unit installed on board that meets the minimum performance criteria, unless otherwise allowed under this paragraph (b). If a vessel has already been issued a limited access permit without the owner providing such documentation, the Regional Administrator shall allow at least 30 days for the vessel to install an operational VMS unit that meets the criteria and for the owner to provide documentation of such installation to the Regional Administrator. The owner of a vessel issued a limited access NE multispecies permit that fishes or intends to fish under a Category A or B DAS as specified in paragraph (b)(1)(vi) of this section must provide documentation to the Regional Administrator that the vessel has an operational VMS unit installed on board that meets those criteria prior to fishing under a groundfish DAS. NMFS shall send letters to all limited access NE multispecies DAS and Atlantic surfclam and ocean quahog permit holders and provide detailed information on the procedures pertaining to VMS purchase, installation, certification, and use.

* * * * *

6. In § 648.14, paragraph (a)(25) is revised to read as follows:

§ 648.14 Prohibitions.

(a) * * *

(25) Fail to maintain an operational VMS unit as specified in § 648.9, and comply with any of the notification requirements specified in § 648.15(b) including:

(i) Fish for, land, take, possess, or transfer surfclams or ocean quahogs under an open access surfclam or ocean quahog permit without having provided proof to the Regional Administrator of NMFS that the vessel has a fully functioning VMS unit on board the vessel and declared a surfclam, ocean quahog, or Maine mahogany quahog fishing activity code via the VMS unit prior to leaving port as specified at § 648.15(b);

(ii) Beginning January 1, 2009, fish for, land, take, possess, or transfer ocean quahogs under a limited access Maine mahogany quahog permit without having provided proof to the Regional Administrator of NMFS that the vessel has a fully functioning VMS unit on board the vessel and declared a fishing trip via the VMS unit as specified at § 648.15(b).

* * * * *

7. In § 648.15, paragraph (b) is revised to read as follows:

§ 648.15 Facilitation of enforcement.

* * * * *

(b) Special notification requirements applicable to surfclam and ocean quahog vessel owners and operators. (1) Surfclam and ocean quahog open access permitted vessels. Vessel owners or operators issued an open access surfclam or ocean quahog open access permit for fishing in the ITQ Program, as specified at § 648.70, are required to declare their intended fishing activity via VMS prior to leaving port.

(2) Maine mahogany quahog limited access permitted vessels. Beginning January 1, 2009, vessel owners or operators issued a limited access Maine mahogany quahog permit for fishing for Maine mahogany quahogs in the Maine mahogany quahog zone, as specified at § 648.76, are required to declare via VMS, prior to leaving port, and entering the Maine mahogany quahog zone, their intended fishing activity, unless otherwise exempted under paragraph § 648.4(a)(4)(ii)(B)(1).

(3) Declaration out of surfclam and ocean quahog fisheries. Owners or operators that are transiting between ports or fishing in a fishery other than surfclams and ocean quahogs must either declare out of fisheries or declare the appropriate fishery, if required, via the VMS unit, before leaving port. The owner or operator discontinuing a fishing trip in the EEZ or Maine mahogany quahog zone must return to port and offload any surfclams or ocean quahogs prior to commencing fishing operations in the waters under the jurisdiction of any state.

(4) Inspection by authorized officer. The vessel permits, the vessel, its gear, and catch shall be subject to inspection upon request by an authorized officer.

(5) Authorization for use of fishing trip notification via telephone. The Regional Administrator may authorize or require the notification of surfclam or ocean quahog fishing trip information via a telephone call to the NMFS Office of Law Enforcement nearest to the point of offloading, instead of the use of VMS. If authorized, the vessel owner or operator must accurately provide the following information prior to departure of his/her vessel from the dock to fish for surfclams or ocean quahogs in the EEZ: Name of the vessel; NMFS permit number assigned to the vessel; expected date and time of departure from port; whether the trip will be directed on surfclams or ocean quahogs; expected date, time, and location of landing; and name of individual providing notice. If use of a telephone call-in notification is authorized or required, the Regional Administrator shall notify affected permit holders through a letter, notification in the Federal Register, e-mail, or other appropriate means.

* * * * *

8. In § 648.75, paragraph (a) is revised to read as follows:

§ 648.75 Cage identification.

* * * * *

(a) Tagging. Before offloading, all cages that contain surfclams or ocean quahogs must be tagged with tags acquired annually under paragraph (b) of this section. A tag must be fixed on or as near as possible to the upper crossbar of the cage. A tag is required for every 60 ft³ (1,700 L) of cage volume, or portion thereof. A tag or tags must not be removed until the cage is emptied by the processor, at which time the processor must promptly remove and retain the tag(s) for 60 days beyond the end of the calendar year, unless otherwise directed by authorized law enforcement agents.

* * * * *

[FR Doc. E7-17898 Filed 9-10-07; 8:45 am]

BILLING CODE 3510-22-S